DEPARTMENT OF THE INTERIOR

Bureau of Land Management

[MT-924-1430-ET; MTM 89002]

Public Land Order No. 7463; Withdrawal of Public Land for Devil's Elbow Recreation Site; Montana

AGENCY: Bureau of Land Management, Interior.

ACTION: Public Land Order.

SUMMARY: This order withdraws 100.81 acres of public land from surface entry and mining for a period of 20 years for protection and development of a Bureau of Land Management public campground and day use recreation area. The land has been and will remain open to mineral leasing.

EFFECTIVE DATE: October 5, 2000.

FOR FURTHER INFORMATION CONTACT: Sandra Ward, BLM Montana State Office, P.O. Box 36800, Billings, Montana 59107, 406-255-2949, or Susie Williams, BLM Butte Field Office, P.O. Box 3388, Butte, Montana 59702-3388, 406-494-7634.

By virtue of the authority vested in the Secretary of the Interior by Section 204 of the Federal Land Policy and Management Act of 1976, 43 U.S.C. 1714 (1994), it is ordered as follows:

1. Subject to valid existing rights, the following described land is hereby withdrawn from settlement, sale, location or entry under the general land laws, including the United States mining laws (30 U.S.C. Ch. 2 (1994)), but not from leasing under the mineral leasing laws, for protection and development of Devil's Elbow Recreation Site:

Principal Meridian, Montana

T. 11 N., R. 2 W.,

Sec. 23, that portion of the E½NE¼ lying east of the York Road (State Highway 280) as set out on the Certificate of Survey (COS) filed under Document No. 259800 and tracts 7 and 8 as set out on the COS filed under Document No. 452285/T;

Sec. 24, tracts 4 and 5 as set out on the COS filed under Document 452285/T, and tract 6-A as set out on the COS filed under Document No. 464941/B.

The area described contains 100.81 acres in Lewis and Clark County.

2. The withdrawal made by this order does not alter the applicability of those public land laws governing the use of the land under lease, license, or permit, or governing the disposal of their mineral or vegetative resources other than under the mining laws.

3. This withdrawal will expire 20 years from the effective date of this order unless, as a result of a review conducted before the expiration date pursuant to Section 204(f) of the Federal Land Policy and Management Act of 1976, 43 U.S.C. 1714(f) (1994), the Secretary determines that the withdrawal shall be extended.

Dated: September 18, 2000.
Sylvia V. Baca,
Assistant Secretary of the Interior.

[FR Doc. 00-25585 Filed 10-4-00; 8:45 am]

BILLING CODE 4310-DN-P